DEPARTMENT OF COMMERCE

National Oceanic and Atmospheric Administration

50 CFR Part 635

RIN 0648-BA17

Atlantic Highly Migratory Species; Atlantic Shark Management Measures

AGENCY: National Marine Fisheries Service (NMFS), National Oceanic and Atmospheric Administration (NOAA), Commerce.

ACTION: Notice of workshops; extension of comment period.

SUMMARY: NMFS previously published, on September 16, 2011, a notice of intent (NOI) to prepare an environmental impact statement (EIS) and fishery management plan (FMP) amendment that would consider catch shares for the Atlantic shark fisheries. The comment period in the NOI ends on March 1, 2012. In this notice, NMFS announces the dates and locations for five upcoming scoping workshops to provide the opportunity for public comment on various design elements for potential catch shares programs in the Atlantic shark fisheries. Additionally, NMFS is extending the comment period to March 31, 2012, to provide additional opportunities for the five Fishery Management Councils, the Atlantic and Gulf States Marine Fisheries Commissions, and other interested parties to comment on the consideration of catch shares.

DATES: Workshops for Amendment 6 to the 2006 Consolidated Highly Migratory Species (HMS) Fishery Management Plan (FMP) will be held from December 2011 through March 2012. See SUPPLEMENTARY INFORMATION for meeting dates, times, and locations. The deadline for comments on the NOI has been extended from March 1, 2012, as published in the NOI on September 16, 2011 (76 FR 57709), to 5 p.m. on March 31, 2012.

ADDRESSES: Workshops will be held in Madeira Beach, FL; Cocoa Beach, FL; Barnegat, NJ; Belle Chasse, LA; and Manteo, NC. See SUPPLEMENTARY INFORMATION for dates, times, and locations.

As published on September 16, 2011 (76 FR 57709), written comments on this action may be submitted, identified by NOAA-NMFS-2010-0188, by any one of the following methods:

• Electronic submissions: Submit all electronic public comments via the Federal e-Rulemaking Portal: http://www.regulations.gov. To submit comments via the e-Rulemaking Portal, first click the “Submit a Comment” icon, then enter in the keyword search. Locate the document you wish to comment on from the resulting list and click on the “Submit a Comment” icon on the right of that line.

• Fax: (301) 713-1917, Attn: Margo Schulze-Haugen.

• Mail: NMFS SF1, 1315 East-West Highway, Silver Spring, MD 20910.

Instructions: All comments received are part of the public record and generally will be posted to portal http://www.regulations.gov without change. All personal identifying information (for example, name, address, etc.) voluntarily submitted by the commenter may be publicly accessible. Do not submit confidential business information or otherwise sensitive or protected information. NMFS will accept anonymous comments. Attachments to electronic comments will be accepted in Microsoft Word, Excel, WordPerfect, or Adobe PDF file formats only.

Related documents—including the 2006 Consolidated HMS FMP and its amendments, and the 2010 Stock Assessment and Fishery Evaluation Report—are available upon request at the mailing address noted above or on the HMS Management Division's Web page at: http://www.nmfs.noaa.gov/sfa/hms/.

FOR FURTHER INFORMATION CONTACT: Karyl Brewster-Geisz, LeAnn Southward Hogan, or Guý DuBeck at (301) 427-8503 or fax at (301) 713-1917.

SUPPLEMENTARY INFORMATION: The Atlantic shark fisheries are managed under the authority of the Magnuson-Stevens Fishery Conservation and Management Act (Magnuson-Stevens Act). The 2006 Consolidated HMS FMP is implemented by regulations at 50 CFR part 635 and was amended in 2008 and 2010 to address management needs in the Atlantic shark fisheries.

On September 16, 2011 (76 FR 57709), NMFS published a NOI that announces NMFS intent to prepare an EIS and FMP Amendment that would consider catch shares for the Atlantic shark fisheries. The NOI also established a control date for eligibility to participate in an Atlantic shark catch share program, announced the availability of a white paper describing design elements of catch share programs in general and issues specific to the Atlantic shark fisheries, and requested public comment on the implementation of catch shares in the Atlantic shark fisheries. In the NOI, the end of the comment period was announced as March 1, 2012. However, due to the timing of the South Atlantic Fishery Management Council and the March 2012 HMS Advisory Panel meeting, NMFS is extending the comment period to provide additional opportunity for the five Fishery Management Councils, the Atlantic and Gulf States Marine Fisheries Commissions, and other interested parties to comment on the NOI. Therefore, the comment period for the NOI has been extended to 5 p.m. on March 31, 2012.

Request for Comments

Five workshops will be held (see Table 1 for meeting dates, times, and locations) to provide the opportunity for public comment on potential catch share design elements for the Atlantic shark fisheries. These comments will be used to assist in the development of Amendment 6 to the 2006 Consolidated HMS FMP.

Specifically, NMFS is interested in obtaining feedback on issues, including, but not limited to: Eligibility (directed and/or incidental permit holders), specification of the resource unit (species and regions to include), initial allocation (based on catch history and/or other means), and catch share management. NMFS has prepared a white paper that provides more detail concerning some of the potential design elements for catch share programs and provides the public with additional information regarding issues in the Atlantic shark fisheries. Information related to catch shares for the Atlantic shark fisheries is available on the HMS Management Division Web site (http://www.nmfs.noaa.gov/sfa/hms/sharks/catchshares.htm).

Comments received on this action will assist NMFS in determining the options for rulemaking to conserve and manage shark resources and fisheries, consistent with the Magnuson-Stevens Act and the 2006 Consolidated HMS FMP.

Table 1—Dates, Times, and Locations of the Five Scoping Workshops
Date | Time | Meeting locations | Address
December 6, 2011 | 5-8 p.m. | Cocoa Beach Library | 550 N. Brevard Ave., Cocoa Beach, FL 32931.
December 13, 2011 | 5-8 p.m. | Gulf Beaches Public Library | 200 Municipal Dr., Madeira Beach, FL 33708.
January 12, 2012 | 6-9 p.m. | Barnegat Branch Library | 112 Burr St., Barnegat, NJ 08005.
January 31, 2012 | 6-9 p.m. | Belle Chasse Auditorium | 8398 Highway 23, Belle Chasse, LA 70037.
February 16, 2012 | 5-8 p.m. | Manteo Town Hall | 407 Budleigh St., Manteo, NC 27954.

In addition to the five scoping workshops, NMFS has requested time on the agendas of the upcoming Caribbean, Gulf of Mexico, New England, Mid-Atlantic, and South Atlantic Fishery Management Councils, as well as the Atlantic and Gulf States Marine Fisheries Commissions during the public comment period. NMFS also expects to share the comments received to date regarding catch shares for the Atlantic shark fisheries at the March 2012 HMS Advisory Panel meeting. The dates and location of the AP meeting will be announced in a future Federal Register notice.

Authority: 16 U.S.C. 1801 et seq.

Dated: November 18, 2011.
Steven Thur,
Acting Director, Office of Sustainable Fisheries, National Marine Fisheries Service.

[FR Doc. 2011-30276 Filed 11-22-11; 8:45 am]

BILLING CODE 3510-22-P